DEPARTMENT OF TRANSPORTATION

Federal Aviation Administration

14 CFR Part 97

[Docket No. 30690; Amdt. No 3342]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 22, 2009. The compliance date for each SIAP, associated Takeoff Minimums, and ODP is specified in the amendatory provisions.

The incorporation by reference of certain publications listed in the regulations is approved by the Director of the Federal Register as of October 22, 2009.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 2, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 19 Nov 2009

Davis Woodland, CA, Yolo County, RNAV (GPS) RWY 16, Orig-A

Davis Woodland, CA, Yolo County, RNAV (GPS) RWY 34, Orig-A

Fernandina Beach, FL, Fernandina Beach Muni, Takeoff Minimums and Obstacle DP, Orig

New Smyrna Beach, FL, Massey Ranch Airpark, Takeoff Minimums and Obstacle DP, Orig

Monroe, GA, Monroe-Walton County, NDB-A, Amdt 1

Monroe, GA, Monroe-Walton County, RNAV (GPS) RWY 3, Amdt 1

Harrisburg, PA, Harrisburg Intl, Takeoff Minimums and Obstacle DP, Amdt 8

Columbia, SC, Jim Hamilton L.B. Owens, Takeoff Minimums and Obstacle DP, Amdt 3

Fayetteville, TN, Fayetteville Muni, NDB RWY 20, Amdt 5

Platteville, WI, Platteville Muni, NDB RWY 25, Amdt 5, CANCELLED

Effective 17 Dec 2009

Barter Island, AK, Barter Island LRRS, Takeoff Minimums and Obstacle DP, Orig

Deadhorse, AK, Deadhorse, RNAV (GPS) RWY 5, Amdt 1A

Deadhorse, AK, Deadhorse, RNAV (GPS) RWY 23, Amdt 1A

Fairbanks, AK, Fairbanks Intl, RNAV (GPS) X RWY 1L, Orig, CANCELLED

Fairbanks, AK, Fairbanks Intl, RNAV (GPS) X RWY 19R, Orig, CANCELLED

Holy Cross, AK, Holy Cross, RNAV (GPS) RWY 1, Orig-A

Holy Cross, AK, Holy Cross, RNAV (GPS) RWY 19, Orig-A

Kipnuk, AK, Kipnuk, Takeoff Minimums and Obstacle DP, Orig

Kotzebue, AK, Ralph Wien Memorial, ILS OR LOC/DME RWY 9, Amdt 2

Point Hope, AK, Point Hope, Takeoff Minimums and Obstacle DP, Orig

Unalakleet, AK, Unalakleet, LOC/DME RWY 15, Amdt 3A

Unalakleet, AK, Unalakleet, VOR/DME-D, Amdt 4A

Wainwright, AK, Wainwright, NDB RWY 5, Amdt 1

Wainwright, AK, Wainwright, NDB RWY 23, Amdt 1

Wainwright, AK, Wainwright, RNAV (GPS) RWY 5, Amdt 1

Wainwright, AK, Wainwright, RNAV (GPS) RWY 23, Amdt 1

Wainwright, AK, Wainwright, Takeoff Minimums and Obstacle DP, Orig

Chico, CA, Chico Muni, ILS OR LOC/DME RWY 13L, Amdt 12

Livermore, CA, Livermore Muni, GPS RWY 25R, Orig-B, CANCELLED

Livermore, CA, Livermore Muni, RNAV (GPS) RWY 25R, Orig

Los Banos, CA, Los Banos Muni, RNAV (GPS) RWY 14, Orig

Los Banos, CA, Los Banos Muni, RNAV (GPS) RWY 32, Orig

Los Banos, CA, Los Banos Muni, Takeoff Minimums and Obstacle DP, Amdt 2

Los Banos, CA, Los Banos Muni, VOR/DME RWY 14, Amdt 5

Los Banos, CA, Los Banos Muni, VOR/DME RWY 32, Amdt 5

Tampa, FL, Tampa Intl, ILS OR LOC RWY 18R, Amdt 4B

Tampa, FL, Tampa Intl, RNAV (GPS) RWY 18R, Amdt 1A

Boise, ID, Boise Air Terminal/Gowen Fld, ILS OR LOC/DME RWY 28R, Orig, CANCELLED

Pocatella, ID, Pocatello Regional, Takeoff Minimums and Obstacle DP, Amdt 7

Mattoon/Charleston, IL, Coles County Memorial, ILS OR LOC RWY 29, Amdt 6

Mattoon/Charleston, IL, Coles County Memorial, NDB RWY 29, Amdt 5

Mattoon/Charleston, IL, Coles County Memorial, RNAV (GPS) RWY 24, Orig

Mattoon/Charleston, IL, Coles County Memorial, Takeoff Minimums and Obstacle DP, Amdt 4

Mattoon/Charleston, IL, Coles County Memorial, VOR RWY 6, Amdt 13

Mattoon/Charleston, IL, Coles County Memorial, VOR RWY 24, Amdt 11

Anderson, IN, Anderson Muni-Darlington Field, ILS OR LOC RWY 30, Amdt 1

Anderson, IN, Anderson Muni-Darlington Field, NDB RWY 30, Amdt 6

Anderson, IN, Anderson Muni-Darlington Field, RNAV (GPS) RWY 30, Orig

Anderson, IN, Anderson Muni-Darlington Field, VOR-A, Amdt 9

Tompkinsville, KY, Tompkinsville-Monroe County, RNAV (GPS) RWY 4, Orig

Tompkinsville, KY, Tompkinsville-Monroe County, RNAV (GPS) RWY 22, Orig

Tompkinsville, KY, Tompkinsville-Monroe County, Takeoff Minimums and Obstacle DP, Orig

Winnefield, LA, David G. Joyce, GPS RWY 26, Orig-A, CANCELLED

Winnefield, LA, David G. Joyce, RNAV (GPS) RWY 9, Orig

Winnefield, LA, David G. Joyce, RNAV (GPS) RWY 27, Orig

Winnefield, LA, David G. Joyce, Takeoff Minimums and Obstacle DP, Orig

Fremont, MI, Fremont Muni, Takeoff Minimums and Obstacle DP, Orig

Fremont, MI, Fremont Muni, VOR RWY 18, Orig-A

Fremont, MI, Fremont Muni, VOR RWY 36, Amdt 7A

Pontiac, MI, Oakland County Intl, RNAV (GPS) RWY 27L, Orig

Sturgis, MI, Kirsch Muni, RNAV (GPS) RWY 36, Orig

Dickinson, ND, Dickinson-Theodore Roosevelt Rgnl, RNAV (GPS) RWY 32, Amdt 2

David City, NE, David City Muni, RNAV (GPS) RWY 14, Amdt 1

David City, NE, David City Muni, RNAV (GPS) RWY 32, Amdt 1

David City, NE, David City Muni, Takeoff Minimums and Obstacle DP, Amdt 1

David City, NE, David City Muni, VOR/DME RWY 32, Amdt 1

Norfolk, NE, Karl Stefan Memorial, RNAV (GPS) RWY 1, Amdt 1A

Norfolk, NE, Karl Stefan Memorial, RNAV (GPS) RWY 14, Amdt 1

Norfolk, NE, Karl Stefan Memorial, RNAV (GPS) RWY 19, Amdt 1B

Norfolk, NE, Karl Stefan Memorial, RNAV (GPS) RWY 32, Amdt 1

Norfolk, NE, Karl Stefan Memorial, Takeoff Minimums and Obstacle DP, Orig

Wooster, OH, Wayne County, GPS RWY 28, Amdt 1A, CANCELLED

Wooster, OH, Wayne County, RNAV (GPS) RWY 10, Orig

Wooster, OH, Wayne County, RNAV (GPS) RWY 28, Orig

Wooster, OH, Wayne County, VOR RWY 10, Amdt 1

Guthrie, OK, Guthrie-Edmond Rgnl, Takeoff Minimums and Obstacle DP, Amdt 1

Hamilton, TX, Hamilton Muni, GPS RWY 36, Orig-A, CANCELLED

Hamilton, TX, Hamilton Muni, NDB RWY 36, Amdt 1

Hamilton, TX, Hamilton Muni, RNAV (GPS) RWY 18, Orig

Hamilton, TX, Hamilton Muni, RNAV (GPS) RWY 36, Orig

Hamilton, TX, Hamilton Muni, Takeoff Minimums and Obstacle DP, Orig

Seattle, WA, Boeing Field/King County Intl, ILS RWY 13R, Amdt 29

Seattle, WA, Boeing Field/King County Intl, LOC/DME RWY 13R, Amdt 2

Elkins, WV, Elkins-Randolph Co-Jennings RA, GPS RWY 5, Orig-A, CANCELLED

Elkins, WV, Elkins-Randolph Co-Jennings RA, GPS RWY 23, Orig-B, CANCELLED

Elkins, WV, Elkins-Randolph Co-Jennings RA, RNAV (GPS)-A, Orig

Elkins, WV, Elkins-Randolph Co-Jennings RA, RNAV (GPS) RWY 5, Orig

Elkins, WV, Elkins-Randolph Co-Jennings RA, RNAV (GPS) RWY 14, Orig

Elkins, WV, Elkins-Randolph Co-Jennings RA, RNAV (GPS) RWY 23, Orig

Spencer, WV, Boggs Field, RNAV (GPS) RWY 10, Orig

Spencer, WV, Boggs Field, RNAV (GPS) RWY 28, Orig

Spencer, WV, Boggs Field, Takeoff Minimums and Obstacle DP, Orig

[FR Doc. E9-24347 Filed 10-21-09; 8:45 am]

BILLING CODE 4910-13-P